DEPARTMENT OF COMMERCE

International Trade Administration

[A-469-817]

Ripe Olives From Spain: Notice of Correction to Antidumping Duty Order

AGENCY: Enforcement and Compliance, International Trade Administration, Department of Commerce.

DATES: Applicable August 1, 2018.

FOR FURTHER INFORMATION CONTACT: Bryan Hansen or Peter Zukowski, AD/CVD Operations Office I, Enforcement and Compliance, International Trade Administration, U.S. Department of Commerce, 1401 Constitution Avenue NW, Washington, DC 20230; telephone: (202) 482-3683 or (202) 482-0189, respectively.

SUPPLEMENTARY INFORMATION:

Background

On August 1, 2018, the Department of Commerce (Commerce) published the Antidumping Duty Order on ripe olives from Spain.¹ In the Antidumping Duty Order, Commerce made typographical errors with respect to the estimated weighted-average dumping margin and cash deposit rate for Aceitunas Guadalquivir S.L. (AG). Specifically, Commerce listed AG's estimated weighted-average dumping margin as 17.45 percent and AG's cash deposit rate as 17.46 percent.

¹ See Ripe Olives from Spain: Antidumping Duty Order, 83 FR 37465 (August 1, 2018) (Antidumping Duty Order).

Correction

Commerce has corrected AG's weighted-average antidumping duty margin percentage to 17.46 percent and AG's cash deposit rate to 17.45 percent. The weighted-average antidumping duty margin percentages and cash deposit rates remain unchanged from the Antidumping Duty Order for all other companies. The weighted-average antidumping duty margin percentages and cash deposit rates are as follows:

Exporter/producer | Estimated weighted- average dumping margin (percent) | Cash deposit rate (percent) ²
Aceitunas Guadalquivir S.L | 17.46 | 17.45
Agro Sevilla Aceitunas S.COOP Andalusia | 25.50 | 25.39
Angel Camacho Alimentacion S.L | 16.88 | 16.83
All-Others | 20.04 | 19.98
² The cash deposit rate is equal to the calculated estimated weighted-average dumping margin adjusted for the appropriate subsidy offset(s).

This correction to the Antidumping Duty Order is published in accordance with section 736(a) of the Tariff Act of 1930, as amended.

Dated: August 7, 2018.
James Maeder,
Associate Deputy Assistant Secretary for Antidumping and Countervailing Duty Operations performing the duties of Deputy Assistant Secretary for Antidumping and Countervailing Duty Operations.

[FR Doc. 2018-17202 Filed 8-9-18; 8:45 am]

BILLING CODE 3510-DS-P